DEPARTMENT OF TRANSPORTATION

Federal Aviation Administration

14 CFR Part 39

[Docket No. 2001-NM-295-AD; Amendment 39-13385; AD 2003-25-02]

RIN 2120-AA64

Airworthiness Directives; Boeing Model 777-200 and 777-300 Series Airplanes

AGENCY: Federal Aviation Administration, DOT.

ACTION: Final rule.

SUMMARY: This amendment adopts a new airworthiness directive (AD), applicable to certain Boeing Model 777-200 and 777-300 series airplanes, that requires application of high-temperature sealant in designated areas of the strut aft dry bay. The actions specified by this AD are intended to prevent leakage of hydraulic fluid into the strut aft dry bay, where high temperatures associated with the adjacent primary exhaust nozzle may ignite the fluid, resulting in an uncontrolled fire in the strut aft dry bay. This action is intended to address the identified unsafe condition.

DATES: Effective January 22, 2004.

The incorporation by reference of certain publications listed in the regulations is approved by the Director of the Federal Register as of January 22, 2004.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: John Vann, Aerospace Engineer, Propulsion Branch, ANM-140S, FAA, Seattle Aircraft Certification Office, 1601 Lind Avenue, SW., Renton, Washington 98055-4056; telephone (425) 917-6513; fax (425) 917-6590.

SUPPLEMENTARY INFORMATION: A proposal to amend part 39 of the Federal Aviation Regulations (14 CFR part 39) to include an airworthiness directive (AD) that is applicable to Boeing Model 777-200 and 777-300 series airplanes was published in the Federal Register on November 18, 2002 (67 FR 69493). That action proposed to require application of high-temperature sealant to the strut aft dry bay.

Comments

Interested persons have been afforded an opportunity to participate in the making of this amendment. Due consideration has been given to the comments received.

Add Inspection To Determine Whether Sealant Was Applied During Production

Several commenters stated that, in some of the airplanes on the effectivity list of Boeing Alert Service Bulletin 777-54A0016, dated January 25, 2001, (referenced in the proposed rule as the appropriate service bulletin), high-temperature sealant had been applied to the strut aft dry bay at the factory during production with no signs of damage or leakage. According to these commenters, The Boeing Company confirmed that not all the airplanes on the effectivity list were delivered with sealant missing from the designated areas of the strut aft dry bay. The commenters request, therefore, that the AD (1) add an inspection of those areas to determine whether sealant had been applied during production, and (2) require application of sealant only if had not been applied.

The FAA concurs with the commenters' request. We requested and subsequently approved a revision to the Boeing service bulletin. Service Bulletin 777-54A0016, Revision 1, dated July 10, 2003, adds an inspection for high-temperature sealant in the designated areas of the strut aft bay. If it is found that sealant has been properly applied at each of the designated areas during production, no further action is required. If it is found that sealant is missing or damaged at any of the designated areas, it must be applied. Paragraphs (b)(1) and (b)(2) have been added to this AD to specify the appropriate action.

Conclusion

After careful review of the available data, including the comments noted above, the FAA has determined that air safety and the public interest require the adoption of the rule with the changes previously described. In adding paragraphs (b)(1) and (b)(2) to this AD, we considered whether they would increase the economic burden on any operator or increase the scope of the AD. Our conclusion is that, if paragraph (b)(1) applies, it will be relieving; if paragraph (b)(2) applies, it will be neutral in its effect. Therefore, there is no need to provide additional opportunity for public comment.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Cost Impact

We have reviewed the figures we have used over the past several years to calculate AD costs to operators. To account for various inflationary costs in the airline industry, we find it necessary to increase the labor rate used in these calculations from $60 per work hour to $65 per work hour. The cost impact information, below, reflects this increase in the specified hourly labor rate.

There are approximately 298 Model 777-200 and 777-300 series airplanes of the affected design in the worldwide fleet. The FAA estimates that 95 airplanes of U.S. registry will be affected by this AD, that it will take approximately 4 work hours per airplane to accomplish the required actions, and that the average labor rate is $65 per work hour. Required parts will cost approximately $20 per airplane. Based on these figures, the cost impact of the AD on U.S. operators is estimated to be $26,600, or $280 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-25-02 Boeing: Amendment 39-13385. Docket 2001-NM-295-AD.

Applicability: Model 777-200 and 777-300 series airplanes having line numbers 2 through 297 inclusive, 299, and 300; certificated in any category.

Compliance: Required as indicated, unless accomplished previously.

To prevent leakage of hydraulic fluid into the strut aft dry bay, where high temperatures associated with the adjacent primary exhaust nozzle may ignite the fluid, resulting in an uncontrolled fire in the strut aft dry bay; accomplish the following:

Application of Sealant

(a) Within 1,000 flight hours after the effective date of this AD: Except as provided in paragraph (b) of this AD, apply high-temperature sealant to designated areas in the strut aft dry bay, in accordance with the Accomplishment Instruction of Boeing Alert Service Bulletin 777-54A0016, dated January 25, 2001; or with Revision 1, dated July 10, 2003.

(b)(1) If, upon opening the strut aft fairing forward access panels in accordance with the Accomplishment Instruction of Boeing Alert Service Bulletin 777-54A0016, dated January 25, 2001; or with Revision 1, dated July 10, 2003; it is observed that high-temperature sealant has already been properly applied to each of the designated areas in the strut aft dry bay, no further action is required.

(2) If, upon opening the strut aft fairing forward access panels in accordance with the Accomplishment Instructions of Boeing Alert Service Bulletin 777-54A0016, dated January 25, 2001; or with Revision 1, dated July 10, 2003; it is observed that high-temperature sealant has been improperly applied to any of the designated areas in the strut aft dry bays, re-apply the sealant in each such area in accordance with either of the service bulletins.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 1: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 777-54A0016, dated January 25, 2001; or Boeing Service Bulletin 777-54A0016, Revision 1, dated July 10, 2003. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on January 22, 2004.

Issued in Renton, Washington, on December 5, 2003.
Kalene C. Yanamura,
Acting Manager, Transport Airplane Directorate, Aircraft Certification Service.

[FR Doc. 03-31061 Filed 12-17-03; 8:45 am]

BILLING CODE 4910-13-P